DEPARTMENT OF HOUSING AND URBAN DEVELOPMENT

[Docket No. FR-7011-N-53]

Notice of Proposed Information Collection: 30 Day 2502-0540 Nonprofit Application and Recertification for FHA Mortgage Insurance Programs

AGENCY: Office of the Chief Information Officer, HUD.

ACTION: Notice.

SUMMARY: The proposed information collection requirement described below will be submitted to the Office of Management and Budget (OMB) for review, as required by the Paperwork Reduction Act. The Department is soliciting public comments on the subject proposal.

DATES: Comments Due Date: January 13, 2020.

ADDRESSES: Interested persons are invited to submit comments regarding this proposal. Comments should refer to the proposal by name and/or OMB Control Number and should be sent to: Reports Liaison Officer, Department of Housing and Urban Development, 451 7th Street SW, Washington, DC 20410, Room 9120 or the number for the Federal Information Relay Service (1-800-877-8339).

FOR FURTHER INFORMATION CONTACT: Kevin Stevens, Director, Home Mortgage Insurance Division, Office of Single Family Program Development, Department of Housing and Urban Development, 451 7th Street SW, Washington, DC 20410, telephone (202) 708-2121 (this is not a tollfree number) for copies of the proposed forms and other available information.

SUPPLEMENTARY INFORMATION: This notice informs the public that HUD is seeking approval from OMB for the information collection described in Section A. The Federal Register that solicited public comments on the information for a period of 60 days was published on July 23, 2019.

A. Overview of Information Collection

Title of Information Collection: Nonprofit Application and Recertification for FHA Mortgage Insurance Programs.

OMB Control Number, if applicable: 2502-0540.

Type of Request: Extension.

Description of the need for the information and proposed use: A nonprofit organization must apply for HUD-approval, and be placed on the HUD Nonprofit Roster (Roster) to participate in FHA's Single Family Nonprofit Programs. Nonprofits must submit a recertification package every two years to retain approval and remain on the Roster. HUD uses the information to ensure that a nonprofit organization meets the requirements to participate in Single Family Nonprofit programs.

Agency form numbers, if applicable: None.

Respondents: Nonprofit organizations.

Estimation of the total numbers of hours needed to prepare the information collection:

Estimated Number of Respondents: 435.

Estimated Number of Responses: 769.95.

Frequency of Response: 1.77.

Average Hours per Response: 11.99.

Total Estimated Burdens: 9,231.70.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

C. Authority

The Paperwork Reduction Act of 1995, 44 U.S.C., Chapter 35, as amended.

Dated: November 12, 2019.
Colette Pollard,
Department Reports Management Officer, Officer of the Chief Information Officer.

[FR Doc. 2019-26696 Filed 12-11-19; 8:45 am]

BILLING CODE 4210-67-P